DEPARTMENT OF HOMELAND SECURITY

Federal Emergency Management Agency

[Docket ID FEMA-2018-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

David I. Maurstad,
Deputy Associate Administrator for Insurance and Mitigation, Department of Homeland Security, Federal Emergency Management Agency.

State and county | Location and case No. | Chief executive officer of community | Community map repository | Date of modification | Community No.
Alabama:
Lee (FEMA Docket No.: B-1855). | City of Smiths Station (18-04-3883P). | The Honorable F.L. `Bubba' Copeland, Mayor, City of Smiths Station, 2336 Lee Road 430, Smiths Station, AL 36877. | City Hall, 2336 Lee Road 430, Smiths Station, AL 36877. | December 3, 2018 | 010491
Lee (FEMA Docket No.: B-1855). | Unincorporated areas of Lee County (18-04-3883P). | The Honorable Bill English, Chairman, Lee County Board of Commissioners, P.O. Box 666, Opelika, AL 36803. | Lee County Building Department, 100 Orr Avenue, Opelika, AL 36801. | December 3, 2018 | 010250
Russell (FEMA Docket No.: B-1855). | City of Phenix City (18-04-3883P). | The Honorable Eddie N. Lowe, Mayor, City of Phenix City, 601 12th Street, Phenix City, AL 36867. | City Hall, 601 12th Street, Phenix City, AL 36867. | December 3, 2018 | 010184
Florida:
Leon (FEMA Docket No.: B-1852). | City of Tallahassee (18-04-4528P). | The Honorable Andrew Gillum, Mayor, City of Tallahassee, 300 South Adams Street, Tallahassee, FL 32301. | Growth Management Department, 300 South Adams Street, Tallahassee, FL 32301. | November 27, 2018 | 120144
Polk (FEMA Docket No.: B-1852). | Unincorporated areas of Polk County (18-04-0571P). | The Honorable R. Todd Dantzler, Chairman, Polk County Board of Commissioners, P.O. Box 9005, Drawer BC01, Bartow, FL 33831. | Polk County Planning and Development Department, P.O. Box 9005, Drawer GM01, Bartow, FL 33831. | November 29, 2018 | 120261
Sarasota (FEMA Docket No.: B-1848). | Unincorporated areas of Sarasota County (18-04-3612P). | The Honorable Nancy Detert, Chair, Sarasota County Board of Commissioners, 1660 Ringling Boulevard, Sarasota, FL 34236. | Sarasota County Planning and Development Services Department, 1001 Sarasota Center Boulevard, Sarasota, FL 34240. | November 14, 2018 | 125144
Kentucky: Hopkins (FEMA Docket No.: B-1855). | City of Madisonville (18-04-2820P). | The Honorable David Jackson, Mayor, City of Madisonville, 67 North Main Street, Madisonville, KY 42431. | Engineering Department, 604 McCoy Avenue, Madisonville, KY 42431. | November 28, 2018 | 210115
Maine: Penobscot (FEMA Docket No.: B-1852). | Town of Howland (17-01-1189P). | The Honorable Joshua McNally, Chairman, Town of Howland Planning Board, P.O. Box 386, Howland, ME 04448. | Town Hall, 8 Main Street, Howland, ME 04448. | November 23, 2018 | 230391
Maryland: Worcester (FEMA Docket No.: B-1852). | Town of Ocean City (18-03-1304P). | The Honorable Richard W. Meehan, Mayor, Town of Ocean City, 301 Baltimore Avenue, Ocean City, MD 21842. | Department of Planning and Community Development, 301 Baltimore Avenue, Ocean City, MD 21842. | November 30, 2018 | 245207
Massachusetts: Bristol (FEMA Docket No.: B-1852). | Town of Freetown (18-01-1582P). | The Honorable Robert P. Jose, Chairman, Town of Freetown Board of Selectmen, P.O. Box 438, Assonet, MA 02702. | Building Department, 3 North Main Street, Assonet, MA 02702. | December 4, 2018 | 250056
New Mexico:
Bernalillo (FEMA Docket No.: B-1848). | City of Albuquerque (18-06-2124P). | The Honorable Timothy M. Keller, Mayor, City of Albuquerque, P.O. Box 1293, Albuquerque, NM 87103. | Planning Department, 600 2nd Street Northwest, Albuquerque, NM 87102. | November 20, 2018 | 350002
Taos (FEMA Docket No.: B-1852). | Unincorporated areas of Taos County (18-06-2137P). | Mr. Leandro Cordova, Manager, Taos County, 105 Albright Street, Taos, NM 87571. | Taos County Planning Department, 105 Albright Street, Taos, NM 87571. | November 30, 2018 | 350078
North Carolina:
Alleghany (FEMA Docket No.: B-1863). | Town of Sparta (18-04-0634P). | The Honorable Wes Brinegar, Mayor, Town of Sparta, P.O. Box 99, Sparta, NC 28675. | Sparta Town Hall, 304 South Main Street, Sparta, NC 28675. | December 6, 2018 | 370005
Macon (FEMA Docket No.: B-1848). | Unincorporated areas of Macon County (17-04-8013P). | The Honorable James P. Tate, Chairman, Macon County, Board of Commissioners, 5 West Main Street, Franklin, NC 28734. | Macon County Planning Department, 5 West Main Street, Franklin, NC 28734. | November 8, 2018 | 370150
Ohio:
Warren (FEMA Docket No.: B-1848). | Unincorporated areas of Warren County (18-05-0549P). | The Honorable Tom Grossmann, Chairman, Warren County Board of Commissioners, 406 Justice Drive, Lebanon, OH 45036. | Warren County Building Department, 406 Justice Drive, Lebanon, OH 45036. | November 15, 2018 | 390757
Warren (FEMA Docket No.: B-1848). | Village of Corwin (18-05-0549P). | The Honorable Dennis R Oszakiewski, Mayor, Village of Corwin, 946 Corwin Avenue, Corwin, OH 45068. | Zoning Department, 6050 North Clarksville Road, Waynesville, OH 45068. | November 15, 2018 | 390555
Warren (FEMA Docket No.: B-1848). | Village of Waynesville (18-05-0549P). | The Honorable Dave Stubbs, Mayor, Village of Waynesville, 1400 Lytle Road, Waynesville, OH 45068. | Municipal Building, 1400 Lytle Road, Waynesville, OH 45068. | November 15, 2018 | 390565
Pennsylvania: Montgomery (FEMA Docket No.: B-1852). | Township of Lower Merion (18-03-0847P). | Mr. Ernie B. McNeely, Manager, Township of Lower Merion, 75 East Lancaster Avenue, Ardmore, PA 19003. | Township Hall, 75 East Lancaster Avenue, Ardmore, PA 19003. | December 3, 2018 | 420701
Rhode Island:
Bristol (FEMA Docket No.: B-1852). | Town of Bristol (18-01-0901P). | The Honorable Nathan T. Calouro, Chairman, Town of Bristol Council, 10 Court Street, Bristol, RI 02809. | Building Department, 9 Court Street, Bristol, RI 02809. | November 16, 2018 | 445393
Washington (FEMA Docket No.: B-1848). | Town of Narragansett (18-01-0820P). | The Honorable Susan Cicilline-Buonanno, President, Town of Narragansett Council, 25 5th Avenue, Narragansett, RI 02882. | Department of Community Development, 25 5th Avenue, Narragansett, RI 02882. | November 19, 2018 | 445402
South Carolina: York (FEMA Docket No.: B-1852). | Unincorporated areas of York County (18-04-4067P). | The Honorable Britt Blackwell, Chairman, York County Council, P.O. Box 66, Rock Hill, SC 29745. | York County Planning and Development Department, 1070 Heckle Boulevard, Suite 107, Rock Hill, SC 29732. | November 15, 2018 | 450193
Tennessee: Knox (FEMA Docket No.: B-1852). | City of Knoxville (18-04-2049P). | The Honorable Madeline Rogero, Mayor, City of Knoxville, 400 Main Street, Room 691, Knoxville, TN 37902. | Stormwater Engineering Department, 400 West Main Street, Suite 480, Knoxville, TN 37901. | November 16, 2018 | 475434
Texas:
Bexar (FEMA Docket No.: B-1852). | City of San Antonio (18-06-0790P). | The Honorable Ron Nirenberg, Mayor, City of San Antonio, P.O. Box 839966, San Antonio, TX 78283. | Transportation and Capital Improvements Department, Storm Water Division, 1901 South Alamo Street, 2nd Floor, San Antonio, TX 78204. | December 3, 2018 | 480045
Bexar (FEMA Docket No.: B-1852). | City of San Antonio (18-06-1177P). | The Honorable Ron Nirenberg, Mayor, City of San Antonio, P.O. Box 839966, San Antonio, TX 78283. | Transportation and Capital Improvements Department, Storm Water Division, 1901 South Alamo Street, 2nd Floor, San Antonio, TX 78204. | November 19, 2018 | 480045
Bexar (FEMA Docket No.: B-1852). | City of Schertz (18-06-1177P). | The Honorable Michael Carpenter, Mayor, City of Schertz, 1400 Schertz Parkway, Schertz, TX 78154. | Floodplain Management Department, 10 Commercial Place, Schertz, TX 78154. | November 19, 2018 | 480269
Bexar (FEMA Docket No.: B-1852). | Unincorporated areas of Bexar County (18-06-0652P). | The Honorable Nelson W. Wolff, Bexar County Judge, 101 West Nueva Street, 10th Floor, San Antonio, TX 78205. | Bexar County Public Works Department, 233 North Pecos-La Trinidad Street, Suite 420, San Antonio, TX 78207. | November 19, 2018 | 480035
Denton (FEMA Docket No.: B-1848). | Town of Bartonville (18-06-0630P). | Mr. Michael Montgomery, Town of Bartonville Administrator, 1941 East Jeter Road, Bartonville, TX 76226. | Town Hall, 1941 East Jeter Road, Bartonville, TX 76226. | November 26, 2018 | 481501
Denton (FEMA Docket No.: B-1848). | Town of Flower Mound (18-06-0630P). | The Honorable Steve Dixon, Mayor, Town of Flower Mound, 2121 Cross Timbers Road, Flower Mound, TX 75028. | Town Hall, 1001 Cross Timbers Road, Suite 2330, Flower Mound, TX 75028. | November 26, 2018 | 480777
Parker (FEMA Docket No.: B-1855). | Unincorporated areas of Parker County (18-06-1021P). | The Honorable Mark Riley, Parker County Judge, 1 Courthouse Square, Weatherford, TX 76086. | Parker County Emergency Management Department, 215 Trinity Street, Weatherford, TX 76086. | November 30, 2018 | 480520
Travis (FEMA Docket No.: B-1852). | City of Austin (17-06-3386P). | The Honorable Steve Adler, Mayor, City of Austin, P.O. Box 1088, Austin, TX 78767. | Watershed Protection Department, 505 Barton Springs Road, Austin, TX 78767. | November 26, 2018 | 480624
Travis (FEMA Docket No.: B-1852). | Unincorporated areas of Travis County (17-06-3386P). | The Honorable Sarah Eckhardt, Travis County Judge, P.O. Box 1748, Austin, TX 78767. | Travis County Transportation and Natural Resources Division, 700 Lavaca Street, Suite 540, Austin, TX 78701. | November 26, 2018 | 481026
Wilson (FEMA Docket No.: B-1848). | Unincorporated areas of Wilson County (18-06-2146P). | The Honorable Richard L. Jackson, Wilson County Judge, 1420 3rd Street, Suite 101, Floresville, TX 78114. | Wilson County Emergency Management Division, 800 10th Street, Building B, Floresville, TX 78114. | November 23, 2018 | 480230
Virginia:
Loudoun (FEMA Docket No.: B-1852). | Town of Leesburg (18-03-0622P). | The Honorable Kelly Burk, Mayor, Town of Leesburg, 25 West Market Street, Leesburg, VA 20176. | Town Hall, 25 West Market Street, Leesburg, VA 20176. | December 3, 2018 | 510091
Prince William (FEMA Docket No.: B-1848). | Unincorporated areas of Prince William County (18-03-0611P). | Mr. Christopher E. Martino, Prince William County Executive, 1 County Complex Court, Prince William, VA 22192. | Prince William County Department of Public Works, Watershed Management Branch, 5 County Complex Court, Prince William, VA 22192. | November 15, 2018 | 510119

[FR Doc. 2018-28150 Filed 12-27-18; 8:45 am]

BILLING CODE 9110-12-P